DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

Applicant: Center for Environmental Research and Conservation, Columbia Univ., NY, NY, PRT-02924.

The applicant requests a permit to import biological tissue samples from Javan rhinoceros (Rhinoceros sondaicus) from the Cat-Tien National Park, Vietnam for the scientific research on genetic markers for use in population analysis to enhance the survival of the species.

Applicant: Carlos T. Oliveira, Laredo, TX, PRT-023972.

The applicant requests a permit to import the sport-hunted trophy of one male bontebok (Damaliscus pygargus dorcas) culled from a captive herd maintained under the management program of the Republic of South Africa, for the purpose of enhancement of the survival of the species.

Applicant: National Marine Fisheries Service/South West Region/Pacific Island Area Office, Honolulu, HI, PRT-022729.

The applicant requests a permit to introduce from the high seas samples and/or whole carcasses of Olive Ridley Sea Turtle, Lepidochelys olivacea, Green Sea Turtle, Chelonia mydas, Hawkswbill Sea Turtle, Eretmochelys imbricata, Loggerhead Sea Turtle, Caretta caretta and Leatherback Sea Turtle, Dermochelys coriacea for enhancement of the species through scientific research.

Marine Mammals

The public is invited to comment on the following application for a permit to conduct certain activities with marine mammals. The application was submitted to satisfy requirements of the Marine Mammal Protection Act of 1972, as amended (16 U.S.C. 1361 et seq.) and the regulations governing marine mammals (50 CFR 18).

Applicant: Terry Meyer, Westfield, PA, PRT-023759.

The applicant requests a permit to import a polar bear (Ursus maritimus) sport-hunted from the Davis Straight polar bear population, Northwest Territories, Canada for personal use taken prior to April 30, 1994. The holding of such a hearing is at the discretion of the Director.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: March 10, 2000.
Kristen Nelson,
Chief, Branch of Permits, Office of Management Authority.

[FR Doc. 00-6601 Filed 3-16-00; 8:45 am]

BILLING CODE 4310-55-M